SMALL BUSINESS ADMINISTRATION

[Declaration of Disaster #P064]

State of Kansas

As a result of the President's major disaster declaration for Public Assistance on September 30, 2004, the U.S. Small Business Administration is activating its disaster loan program only for private non-profit organizations that provide essential services of a governmental nature. I find that Douglas and Wyandotte Counties in the State of Kansas constitute a disaster area due to damages caused by severe storms, flooding and tornadoes occurring on August 27-30, 2004. Applications for loans for physical damage as a result of this disaster may be filed until the close of business on November 29, 2004 at the address listed below or other locally announced locations: U.S. Small Business Administration, Disaster Area 3 Office, 14925 Kingsport Road, Fort Worth, TX 76155-2243.

The interest rates are:

| Percent
For Physical Damage:
Non-profit organizations without credit available elsewhere | 2.900
Non-profit organizations with credit available elsewhere | 4.875

The number assigned to this disaster for physical damage is P06406.

(Catalog of Federal Domestic Assistance Program Nos. 59008)

Dated: October 8, 2004.
Cheri L. Cannon,
Acting Associate Administrator for Disaster Assistance.

[FR Doc. 04-23277 Filed 10-15-04; 8:45 am]

BILLING CODE 8025-01-P